DEPARTMENT OF COMMERCE

National Oceanic and Atmospheric Administration

50 CFR Part 635

[I.D. 092506B]

Atlantic Highly Migratory Species; Atlantic Bluefin Tuna Fisheries

AGENCY: National Marine Fisheries Service (NMFS), National Oceanic and Atmospheric Administration (NOAA), Commerce.

ACTION: Temporary rule; inseason retention limit adjustment.

SUMMARY: NMFS has determined that the daily Atlantic bluefin tuna (BFT) retention limits for the Atlantic tunas General category should be adjusted to allow for a reasonable opportunity to harvest the General category October through January time-period subquota. Therefore, NMFS increases the daily BFT retention limits for October to provide enhanced commercial General category fishing opportunities in all areas while minimizing the risk of an overharvest of the General category BFT quota.

DATES: The effective dates for the BFT daily retention limits are provided in Table 1 under SUPPLEMENTARY INFORMATION.

FOR FURTHER INFORMATION CONTACT: Mark Murray-Brown, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. The 2006 BFT fishing year began on June 1, 2006, and ends May 31, 2007. The final initial 2006 BFT specifications and General category effort controls were published on May 30, 2006 (71 FR 30619). These final specifications divided the General category quota among three subperiods (June through August, the month of September, and October through January) in accordance with the Highly Migratory Species Fishery Management Plan (1999 FMP) published in 1999 (May 29, 1999; 64 FR 29090), and implementing regulations at § 635.27. A three-fish General category retention limit was set for the first subperiod (June through August) due to the large amount of available quota and the low catch rate at the opening of the season. The three-fish General category retention limit was extended through the second subperiod (September) as catch rates remained low to provide enhanced fishing opportunities while minimizing the risk of exceeding available quota (71 FR 51529, August 30, 2006).

Daily Retention Limits

Pursuant to this action and the final initial 2006 BFT specifications, noted above, the daily BFT retention limits for Atlantic tunas General category are as follows:

Table 1. Effective dates for retention limit adjustments
Permit Category | Effective Dates | Areas | BFT Size Class Limit
General | September 1, 2006, through September 30, 2006, inclusive | All | Three BFT per vessel per day/trip, measuring 73 inches (185 cm) curved fork length (CFL) or larger
| October 1, 2006, through October 31, 2006, inclusive | All | Three BFT per vessel per day/trip, measuring 73 inches (185 cm) curved fork length (CFL) or larger
| November 1, 2006, through January 31, 2007, inclusive | All | One BFT per vessel per day/trip, measuring 73 inches (185 cm) CFL or larger

Adjustment of General Category Daily Retention Limits

Under § 635.23(a)(4), NMFS may increase or decrease the General category daily retention limit of large medium and giant BFT over a range from zero (on Restricted Fishing Days) to a maximum of three per vessel to allow for a reasonable opportunity to harvest the quota for BFT. As part of the final specifications on May 30, 2006 (71 FR 30619), NMFS adjusted the commercial daily BFT retention limit, in all areas, for those vessels fishing under the General category quota, to three large medium or giant BFT, measuring 73 inches (185 cm) or greater curved fork length (CFL), per vessel per day/trip. This retention limit was to remain in effect through August 31, 2006, inclusive, but on August 30, 2006, was extended through September (71 FR 51529). From October 1, 2006, through January 31, 2007, inclusive, the General category daily BFT retention limit was scheduled to revert to one large medium or giant BFT per vessel per day/trip.

The June through September time-period subquota allocations for the 2006 fishing year totaled approximately 1,038 metric tons (mt). As of September 15, 2006, 75.8 mt have been landed in the General category and catch rates are less than 1.0 mt per day. If catch rates remain at current levels, approximately 11 mt would be landed during the remainder of September. This projection would bring the June though September time-period subquota landings to approximately 88.4 mt, resulting in an underharvest of approximately 951 mt. This carryover combined with the October through January time-period subquota allocation of 115.3 mt would allow for 1,066 mt to be harvested during the months of October through January. In combination with the subquota rollover from the June through August time-period, the expected rollover from September time-period subquota allocation, and the October through January subquota allocation, current catch rates, and the daily retention limit reverting to one large medium or giant BFT per vessel per day on October 1, 2006, NMFS anticipates the full October through January time-period subquota will not be harvested. Adding an excessive amount of unused quota from one time-period subquota to the subsequent time period subquota is undesirable because it effectively changes the time-period subquota allocation percentages established in the 1999 FMP and may contribute to excessive carry-overs to subsequent fishing years. In the past, however the fishery has had the capability of increasing landings rates dramatically in the latter Fall and Winter months, particularly off southern states. If the fishery was to perform at these past levels with very high landings rates (although not witnessed during the winter of 2005/2006) it would alleviate concern of excessive roll-overs from one fishing year to the next but raises the possibility of a curtailed season without full extension of fishing opportunities through January.

Therefore, based on a review of dealer reports, daily landing trends, available quota, and the availability of BFT on the fishing grounds, NMFS has determined that an increase in the General category daily BFT retention limit effective from October 1, 2006, through October 31, 2006, inclusive, is warranted. Thus, the General category daily retention limit of three large medium or giant BFT per vessel per day/trip (see Table 1) is extended through October 31, 2006. From November 1, 2006, through January 31, 2007, inclusive, the General category default daily BFT retention limit will be one large medium or giant BFT per vessel per day/trip. NMFS anticipates that with a combination of the default retention limit starting on November 1, 2006, and the large amount of General category quota available, there will be sufficient quota for the coastwide General category season to extend into the winter months and allow for a southern Atlantic fishery to take place on an order of magnitude of prior years with minimal risk of landings exceeding available quota. However, to reduce the risks of excessive landings rates throughout the winter, NMFS has determined it necessary to only extend the three BFT daily retention limit for the one month of October and will re-examine the need to further extend the increased bag limit prior to November 1 based on landings rates and other fishery information. In addition, one of the preferred alternatives in the final Consolidated Highly Migratory Species FMP (July 14, 2006, 71 FR 40095), would formally allocate General category sub-quota to the December and January individual time-frames to provide for a late-season south Atlantic fishery.

This adjustment is intended to provide a reasonable opportunity to harvest the U.S. landings quota of BFT while maintaining an equitable distribution of fishing opportunities, to help achieve optimum yield in the General category BFT fishery, to collect a broad range of data for stock monitoring purposes, and to be consistent with the objectives of the 1999 FMP.

Monitoring and Reporting

NMFS selected the daily retention limits and their duration after examining current and previous fishing year catch and effort rates, taking into consideration public comment on the annual specifications and inseason management measures for the General category received during the 2006 BFT quota specifications rulemaking process, and analyzing the available quota for the 2006 fishing year. NMFS will continue to monitor the BFT fishery closely through dealer landing reports, the Automated Landings Reporting System, state harvest tagging programs in North Carolina and Maryland, and the Large Pelagics Survey. Depending on the level of fishing effort and catch rates of BFT, NMFS may determine that additional retention limit adjustments are necessary to ensure available quota is not exceeded or, to enhance scientific data collection from, and fishing opportunities in, all geographic areas.

Closures or subsequent adjustments to the daily retention limits, if any, will be published in the Federal Register. In addition, fishermen may call the Atlantic Tunas Information Line at (888) 872-8862 or (978) 281-9260, or access the internet at www.hmspermits.gov, for updates on quota monitoring and retention limit adjustments.

Classification

The Assistant Administrator for NMFS (AA), finds that it is impracticable and contrary to the public interest to provide prior notice of, and an opportunity for public comment on, this action for the following reasons:

NMFS has recently become aware of increased availability of large medium and giant BFT off southern New England fishing grounds from fishing reports and landings data from dealers. This increase in abundance provides the potential to increase General category landings rates for a late season, southern New England fishery if participants are authorized to harvest three large medium or giant BFT per day. Although landings to date have been low (i.e. less than one mt/day) there is the potential for increased availability of BFT off the southern New England coast during the Fall to allow for an increase in fishery landing rates. The regulations implementing the 1999 FMP provide for inseason retention limit adjustments to respond to the unpredictable nature of BFT availability on the fishing grounds, the migratory nature of this species, and the regional variations in the BFT fishery. Adjustment of retention limits is also necessary to avoid excessive quota rollovers to subsequent General category time-period subquotas. Affording prior notice and opportunity for public comment to implement these retention limits is impracticable as it would preclude NMFS from acting promptly to allow harvest of BFT that are still available on southern New England fishing grounds. Analysis of available data shows that the General category BFT retention limit may be increased for the Atlantic tuna General and HMS Charter/Headboat permit holders with minimal risks of exceeding the International Commission for the Conservation of Atlantic Tunas allocated quota.

Delays in increasing the retention limits would be contrary to the public interest. Limited opportunities to harvest the respective quotas may have negative social and economic impacts to U.S. fishermen that either depend on catching the available quota within the time-periods designated in the 1999 FMP, or depend on multiple BFT retention limits to attract individuals to book charters. For both the General and the HMS Charter/Headboat sectors, the retention limits must be adjusted as expeditiously as possible so the impacted sectors can benefit from the adjustment.

Therefore, the AA finds good cause under 5 U.S.C. 553(b)(B) to waive prior notice and the opportunity for public comment. For all of the above reasons, and because this action relieves a restriction (i.e., current default retention limit is one fish per vessel/trip but this action increases that limit and allows retention of more fish), there is also good cause under 5 U.S.C. 553(d) to waive the 30-day delay in effectiveness.

This action is being taken under 50 CFR 635.23(a)(4) and is exempt from review under Executive Order 12866.

Authority: 16 U.S.C. 971 et seq. and 1801 et seq.

Dated: September 27, 2006.
Alan D. Risenhoover,
Director, Office of Sustainable Fisheries, National Marine Fisheries Service.

[FR Doc. 06-8435 Filed 9-28-06; 2:57 pm]

BILLING CODE 3510-22-S